DEPARTMENT OF AGRICULTURE

Animal and Plant Health Inspection Service

7 CFR Part 301

[Docket No. APHIS-2006-0169]

Pine Shoot Beetle; Additions to Quarantined Areas

AGENCY: Animal and Plant Health Inspection Service, USDA.

ACTION: Affirmation of interim rule as final rule.

SUMMARY: We are adopting as a final rule, without change, an interim rule that amended the pine shoot beetle regulations by adding the entire State of Iowa and two counties in New Jersey, Morris and Somerset, to the list of quarantined areas. We took that action following the detection of pine shoot beetle in these areas. The interim rule was necessary to prevent the spread of pine shoot beetle, a pest of pine trees, into noninfested areas of the United States.

DATES: Effective on June 12, 2007, we are adopting as a final rule the interim rule that was published at 72 FR 6433-6435 on February 12, 2007.

FOR FURTHER INFORMATION CONTACT: Mr. Weyman Fussell, Pine Shoot Beetle Program Manager, Emergency and Domestic Programs, PPQ, APHIS, 4700 River Road Unit 134, Riverdale, MD 20737-1231; (301) 734-5705.

SUPPLEMENTARY INFORMATION:

Background

The regulations in 7 CFR 301.50 through 301.50-10 (referred to below as the regulations) restrict the interstate movement of certain regulated articles from quarantined areas in order to prevent the spread of pine shoot beetle into noninfested areas of the United States.

In an interim rule ¹ effective and published in the Federal Register on February 12, 2007 (72 FR 6433-6435, Docket No. APHIS-2006-0169), we amended the pine shoot beetle regulations in § 301.50-3(c) by adding the entire State of Iowa and two counties, Morris and Somerset, in New Jersey to the list of quarantined areas.

¹ To view the interim rule, go to http://www.regulations.gov/fdmspublic/component/main?main=DocketDetail&d=APHIS-2006-0169.

Comments on the interim rule were required to be received on or before April 13, 2007. We did not receive any comments. Therefore, for the reasons given in the interim rule, we are adopting the interim rule as a final rule.

This action also affirms the information contained in the interim rule concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 72 FR 6433-6435 on February 12, 2007.

Done in Washington, DC, this 6th day of June 2007.
Kevin Shea,
Acting Administrator, Animal and Plant Health Inspection Service.

[FR Doc. E7-11276 Filed 6-11-07; 8:45 am]

BILLING CODE 3410-34-P